DEPARTMENT OF HEALTH AND HUMAN SERVICES

Health Resources and Services Administration

Agency Information Collection Activities: Proposed Collection: Comment Request

In compliance with the requirement for opportunity for public comment on proposed data collection projects (section 3506(c)(2)(A) of Title 44, United States Code, as amended by the Paperwork Reduction Act of 1995, Pub. L. 104-13), the Health Resources and Services Administration (HRSA) publishes periodic summaries of proposed projects being developed for submission to the Office of Management and Budget (OMB) under the Paperwork Reduction Act of 1995. To request more information on the proposed project or to obtain a copy of the data collection plans and draft instruments, e-mail paperwork@hrsa.gov or call the HRSA Reports Clearance Officer at (301) 443-1129.

Comments are invited on: (a) The proposed collection of information for the proper performance of the functions of the agency; (b) the accuracy of the agency's estimate of the burden of the proposed collection of information; (c) ways to enhance the quality, utility, and clarity of the information to be collected; and (d) ways to minimize the burden of the collection of information on respondents, including through the use of automated collection techniques or other forms of information technology.

Proposed Project: National Practitioner Data Bank for Adverse Information on Physicians and Other Health Care Practitioners—45 CFR Part 60 Regulations and Forms (OMB No. 0915-0126)—Extension

The National Practitioner Data Bank (NPDB) was established through Title IV of Public Law (Pub. L.) 99-660, the Health Care Quality Improvement Act of 1986, as amended. Final regulations governing the NPDB are codified at 45 CFR part 60. Responsibility for NPDB implementation and operation resides in the Bureau of Health Professions, Health Resources and Services Administration, Department of Health and Human Services (HHS). The NPDB began operation on September 1, 1990.

The intent of Title IV of Public Law 99-660 is to improve the quality of health care by encouraging hospitals, State licensing boards, professional societies, and other entities providing health care services, to identify and discipline those who engage in unprofessional behavior; and to restrict the ability of incompetent physicians, dentists, and other health care practitioners to move from State to State without disclosure of the practitioner's previous damaging or incompetent performance.

The NPDB acts primarily as a flagging system; its principal purpose is to facilitate comprehensive review of practitioners' professional credentials and background. Information on medical malpractice payments, adverse licensure actions, adverse clinical privileging actions, adverse professional society actions, and Medicare/Medicaid exclusions is collected from, and disseminated to, eligible entities. It is intended that NPDB information should be considered with other relevant information in evaluating a practitioner's credentials.

The reporting forms and the request for information forms (query forms) are accessed, completed, and submitted to the NPDB electronically through the NPDB Web site at http://www.npdb-hipdb.hrsa.gov/. All reporting and querying is performed through this secure Web site. Due to overlap in requirements for the Healthcare Integrity and Protection Data Bank (HIPDB), some of the NPDB's burden has been subsumed under the HIPDB.

Estimates of annualized burden are as follows:

Regulation citation | Number of respondents | Responses per respondent | Total responses | Hours per response (minutes) | Total burden hours | Wage rate | Total cost
60.6(a) Errors & Omissions | 315 | 5 | 1,260 | 15 | 315 | $25 | $7,875.00
60.6(b) Revisions to Action | 109 | 1 | 109 | 30 | 54.5 | 25 | 1,362.50
60.7(b) Medical Malpractice Payment Report | 519 | 29 | 15,051 | 45 | 11,288.25 | 25 | 282,206.25
60.8(b) Adverse Action Reports-State Boards | ¹ 0 | 0 | 0 | 0 | 0 | 0 | 0
60.11(a)(3) Adverse Action | 480 | 2 | 960 | 45 | 720 | 25 | 18,000
60.11(c) Requests for Hearings by Entities | 0 | 0 | 0 | 480 | 0 | 200 | 0
60.12(a)(1) & (2) Queries by Hospital | 5,996 | 213 | 1,277,148 | 5 | 106,429 | 25 | 2,660,725
60.13(a)(1)(i) Disclosure to Hospitals | ² 0 | 0 | 0 | 0 | 0 | 0 | 0
60.13(a)(1)(ii) Disclosure to Practitioners (Self Query) | ³ 0 | 0 | 0 | 0 | 0 | 0 | 0
60.13(a)(1)(iii) Disclosure to Licensure Boards | 87 | 645 | 56,115 | 5 | 4,676.25 | 25 | 116,906.25
60.13(a)(1)(iv) Queries by Non-Hospital Health Care Entities | 7,305 | 322 | 2,352,210 | 5 | 196,017.5 | 25 | 4,900,437.50
60.13(a)(i)(v) Queries by Plaintiffs' Attorneys | 5 | 1 | 5 | 30 | 2.5 | 200 | 500.00
60.13(a)(1)(vi) Queries by Non-Hospital Health Care Entities-Peer Review | ⁴ 0 | 0 | 0 | 0 | 0 | 0 | 0
60.13(a)(i)(vii) Requests by Researchers for Aggregate Data | 20 | 1 | 20 | 30 | 10 | 38 | 380.00
60.16(b) Practitioner Places a Report in Disputed Status | 404 | 1 | 404 | 15 | 101 | 45 | 4,545.00
60.16(b) Practitioner Statement | 1,415 | 1 | 1,415 | 45 | 1,061.25 | 100 | 106,125.00
60.16(b) Practitioner Requests for Secretarial Review | 27 | 1 | 27 | 480 | 216 | 200 | 43,200.00
60.3 Entity Registration—Initial | 1,447 | 1 | 1,447 | 60 | 1,447 | 25 | 36,175
60.3 Entity Registration—Update | 13,115 | 1 | 13,115 | 5 | 1,092.92 | 25 | 27,323
60.13(a) Authorized Agent Designation—Initial | 717 | 1 | 717 | 15 | 179.25 | 25 | 4,481.25
60.13(a) Authorized Agent—Update | 139 | 1 | 139 | 5 | 11.58 | 25 | 289.50
60.14(c) Account Discrepancy Report | 5 | 1 | 5 | 15 | 1.25 | 25 | 31.25
60.14(c) Electronic Funds Transfer Authorization | 284 | 1 | 284 | 15 | 71 | 25 | 1,775.00
60.3 Entity Reactivation | 0 | 0 | 0 | 0 | 0 | 0 | 0
Total | 32,389 |  | 3,720,431 |  | 323,694.25 |  | 8,212,337.5
¹ Included in estimate for reporting adverse licensure actions to the HIPDB in 45 CFR Part 61.
² Included in estimate for hospital queries under § 60.12(a).
³ Included in estimate for self queries to the HIPDB in 45 CFR Part 61.
⁴ Voluntary queries—not required by law.

E-mail comments to paperwork@hrsa.gov or mail the HRSA Reports Clearance Officer, Room 10-33, Parklawn Building, 5600 Fishers Lane, Rockville, MD 20857. Written comments should be received within 60 days of this notice.

Dated: March 15, 2010.
Sahira Rafiullah,
Director, Division of Policy Review and Coordination.

[FR Doc. 2010-6068 Filed 3-18-10; 8:45 am]

BILLING CODE 4165-15-P